GENERAL SERVICES ADMINISTRATION

[Notice-ID-2015-01; Docket No. 2015-0002; Sequence 24]

GSA's Digital Innovation Hack-a-thon Fall 2015

AGENCY: GSA IT, Digital Services Division, General Services Administration (GSA).

ACTION: Notice.

SUMMARY: The purpose of this notice is to announce a software programming and data innovation competition hosted by GSA IT's Digital Services Division that will be held on Friday, October 16, 2015. The competition details can be viewed at http://open.gsa.gov/Digital-Innovation-Hackathon-Fall2015. The goal of this competition is to ask the public and academia to develop smart technology solutions in the form of an application, application programming interface (API), and/or data mashup that has the capability to provide GSA with key insights and recommendations for future enhancements. GSA will challenge software developers, designers, engineers, data scientists, and subject matter experts (SMEs) to create a solution using publicly available GSA data.

DATES: Registration for this event will close Tuesday, October 13, 2015, at 11:59 p.m. Eastern Standard Time (EST). The competition will be open on Friday, October 16, 2015, from 9:00 a.m. until 4:30 p.m. Eastern Standard Time (EST), on-site registration at GSA will begin at 8:30 a.m. (EST).

ADDRESSES: Registration: Registration for this event will be accomplished online at the following link: http://open.gsa.gov/Digital-Innovation-Hackathon-Fall2015. The event space is limited to the first 120 people; once registration is complete, participants will receive a confirmation email.

Event Location: 1800 F Street NW., Washington, DC 20405, Conference Center. A government-issued ID shall be required to gain access into the building. All participants must enter through the main entrance located on 18th Street.

FOR FURTHER INFORMATION CONTACT: Ms. Cindy A. Smith at cindya.smith@gsa.gov or 816-823-5291.

SUPPLEMENTARY INFORMATION:

Purpose: In this competition, participants are asked to develop a technology-driven solution using publicly available GSA data that allows an agency to identify opportunities for improvements and transparency. As such, GSA challenges the participants to create a solution using GSA data that could be replicated across government to every agency, using their own data. GSA will provide electronic links to publicly available datasets through the competition details Web page. The datasets will also be available through Data.gov.

Details of Challenge: Design and create a digital interactive solution in the form of an application, application programming interface (API), and/or data mashup that utilizes federal data collected by GSA. The technology solution should be innovative! GSA does not want an analysis tool that tells what is already known. This should be a forward-thinking solution that enhances transparency.

The solution should be a data-driven solution to provide meaningful insights that can help drive smarter decisions by federal employees. The ultimate goal is to help federal agencies use data to its fullest, share data with all agencies, and become more transparent to the American public.

The solution should accomplish two tasks:

1. Visually display or transmit data in a way that will enhance the way GSA works; and

2. Through analysis of the data, identify relationships, if they exist, and provide valuable insights that could be gained through improved data collection efforts.

Coders, designers, engineers, data scientists, SMEs from industry, and academia are all invited! Pre-determined teams are welcome to include a stand-alone or mix of private industry, non-profit, and academia. Modification to team make-up may occur based on team skill make-up at the direction of the competition host. Cash prizes will be awarded to the best projects.

Data: Participants will be provided all final project ideas, existing code, and publicly available datasets in advance of the event. Event information will be posted on the following page, http://open.gsa.gov/Digital-Innovation-Hackathon-Fall2015, and will be updated as necessary. Hackathon projects may include the following:

• Green House Gas (GHG) Reduction Visualization—The Office of Governmentwide Policy (OGP) has been working to create an analytical framework and tool to support agencies in meeting the goals outlined in a recent Executive Order 13693 ‘Planning for Federal Sustainability in the Next Decade’, regarding greenhouse gas emission reductions. The model currently uses several variables to help agencies examine how increasing their use of E-85 capable vehicles and replacing gas-powered vehicles with E-85 capable vehicles would affect their total greenhouse gas emissions. Skills desired include database coding ability (e.g., SQL language), analytical research, and experience using data visualization software.

• Data Center Consolidation Mashup and Tool—Multiple stakeholders including the White House, Congress, and government agencies share a common interest in better utilizing government data centers. This has led to multiple report generation from multiple sources to better understand power consumption and data center utilization and efficiency. The purpose of this challenge is to mashup different datasets into visualization and application for all stakeholders to utilize. Skills desired include web and application developers, user experience (UX) designers, data scientists, and data center SMEs.

• Travel Challenge 2.0 App Development—As a continuation of a Travel Challenge held in 2014, GSA is looking for developers to take the Travel Application to the next level. Developed in Python code, this tool is close to production quality and needs some finishing code and design ideas. Skills desired include Python developers and UX designers.

Eligibility for Challenge: Eligibility to participate in the GSA Digital Innovation Hackathon Fall 2015 edition and win a prize is limited to entities/individuals—

1. That have registered to participate in the competition and complied with the rules of the competition as explained in this posting; and

2. That have been incorporated in and maintain a primary place of business in the United States, and in the case of an individual, whether participating singly or in a group, the participant must be a citizen or permanent resident of the United States.

Participants may not be a Federal entity or Federal employee acting within the scope of employment. However, an individual or entity shall not be deemed ineligible to win prize money because the individual or entity used Federal facilities or consulted with Federal employees during a competition if the facilities and employees are made available to all individuals and entities participating in the competition on an equitable basis.

Pre-determined teams of up to 5 members are welcome to include a stand-alone or mix of private industry, non-profit, and academia. Modification to team make-up may occur based on team skill make-up at the direction of the competition host.

Participants agree to assume any and all risks and waive claims against the federal government and its related entities, except in the case of willful misconduct, for any injury, death, damage, or loss of property, revenue, or profits, whether direct, indirect, or consequential, arising from participation in this competition, whether the injury, death, damage, or loss arose through negligence or otherwise. Participants also agree to obtain liability insurance or demonstrate financial responsibility, to cover a third party for death, bodily injury, property damage, or loss resulting from an activity carried out in connection with participation in this competition, with the Federal Government named as an additional insured under the registered participant's insurance policy and registered participants agreeing to indemnify the Federal Government against third party claims for damages arising from or related to the competition activities, and the Federal Government for damage or loss to Government property resulting from such an activity.

As GSA is under a strict duty not to give preferential treatment to any private organization or individual, participants must agree to take diligent care to avoid the appearance of Government endorsement of competition participation and submission. Participants must agree not to refer to GSA's use of your submission (be it product or service) in any commercial advertising or similar promotions in a manner that could reasonably imply (in the judgment of a reasonable person) that the GSA or the federal government endorses, prefers, sponsors, or has an affiliation with participants' products or services. Participants agree that GSA's trademarks, logos, service marks, trade names, or the fact that GSA awarded a prize to a participant, shall not be used by the participant to imply direct GSA endorsement of participant or participant's submission. Both participants and GSA may list the other party's name in a publicly available customer or other list so long as the name is not displayed in a more prominent fashion than any other third-party name.

Prizes: GSA may award up to three team prizes but no more than $1,000 to each member of a winning team. GSA is not required to award all prizes if the judges determine that a smaller number of entries meet the scope and requirements laid out for this competition, or if the agency plans to only use code from a smaller number of entries.

Participants can win no more than $1,000 per person. Funding for this GSA Digital Innovation Hackathon Fall 2015 edition award will come from GSA. Prizes will be awarded to the winner(s) of the competition via Electronic Funds Transfer (EFT), within 60 days of announcement of the winner(s).

Requirements: The final solution should be open source code and placed on a GSA site to be specified to participants the day of the event. “Open source” refers to a program in which the source code is available to the general public for use and/or modification from its original design free of charge. In order to be Open Source Initiative Certified, the solution must meet the following ten criteria:

1. The author or holder of the license of the source code cannot collect royalties on the distribution of the program;

2. The distributed program must make the source code accessible to the user;

3. The author must allow modifications and derivations of the work under the program's original name;

4. No person, group, or field of endeavor can be denied access to the program;

5. The rights attached to the program must not depend on the program being part of a particular software distribution;

6. The licensed software cannot place restrictions on other software that is distributed with it;

7. The solution must be an online, interactive solution that meets the goals and objectives provided in this document;

8. The solution must include documentation of all data sources used;

9. The solution must include a description of how the solution can be updated with additional data from other agencies; and

10. The solver must provide recommendations to enhance Government insights through improvements in data collection.

The winner(s) of the competition will, in consideration of the prize(s) to be awarded, grant to GSA a perpetual, non-exclusive, royalty-free license to use any and all intellectual property to the winning entry for any governmental purpose, including the right to permit such use by any other agency or agencies of the Federal Government. All other rights of the winning entrant will be retained by the winner of the competition.

Scope: Any federal data and information that is publicly available is included in the scope of this challenge. Final project ideas, existing code, and public datasets will be provided in advance of the event.

Judges: There will be three judges, each with expertise in government-wide policy, travel, information technology, and/or acquisition. Judges will award a score to each submission. The winner(s) of the competition will be decided based on the highest average overall score. Judges will only participate in judging submissions for which they do not have any conflicts of interest.

Judging Criteria: A panel of judges will assess each solution based on technical competence and capabilities, use of GSA data to provide effective outcomes, creativity/innovation, and valuable information and insights.

Submissions will be judged based on the following metrics:

Criteria Technical Cmpetence and Capabilities/Weight 50%

Description—The solution addresses the primary goals of the Hackathon. It is a finished product that can provide insightful analysis and show GSA how to enhance/improve existing functions, share data across GSA and more efficiently utilize existing applications.

Use of Data To Provide Effective Outcomes/Weight 20%

Description—The solution displays in a way that is easy to understand, visually appealing, and will help drive understanding of current trends as well as recommendations.

Creativity/Innovation/Weight 10%

Description—The solution exceeds any internal capability that GSA has for analysis of data through its incorporation of creative design elements and innovative capabilities.

Valuable Information And Insights Regarding Data/Weight 20%

Description—The solver provides recommendations for additional data elements to be collected by the government. The solver identifies gaps in the data and utilizes external data sources and research to aid the government in setting future data collection policies.

Challenge Goal and Objectives

Goal: Design and build an application, API, and/or data mashup while using GSA data that solves one of three GSA business problems provided at the Hackathon.

Objectives:

—Utilize GSA data to create an application, API, and/or data mashup.

—Provide GSA a better understanding of use and needs of current and future data assets.

—Post all open source solutions on the GSA open source code site for future use by the government developer community and GSA.

Registration: Registration for this event will be accomplished online at the following link: http://open.gsa.gov/Digital-Innovation-Hackathon-Fall2015. It shall remain open until Tuesday, October 13, 2015, at 11:59 p.m., Eastern Standard Time (EST) or until the 120-person registration capacity is reached. Once registration is complete, you shall receive a confirmation email.

All participants are required to check in with Security upon arriving at the GSA Central Office Building, 1800 F Street NW., Washington, DC 20405. A government- issued ID is required to gain access into the building. All participants must enter through the main entrance located on 18th Street.

Proceed through Security and follow the posted signs to the Conference Center, Rooms 1459, 1460, and 1461.

Check in at the registration table on Friday, October 16, 2015, begins at 8:30 a.m., Eastern Standard Time (EST). All participants must stop here to sign the required form shown below:

• Gratuitous Service Agreement.

Dated: September 10, 2015.
Kris Rowley,
Director, Enterprise Information & Data Mgmt. Ofc.

[FR Doc. 2015-23246 Filed 9-15-15; 8:45 am]

BILLING CODE 6820-34-P